DEPARTMENT OF ENERGY

Federal Energy Regulatory Commission

[Docket No. CP10-450-000]

Kinder Morgan Interstate Gas Transmission LLC; Notice of Request Under Blanket Authorization

June 11, 2010.

Take notice that on June 3, 2009, Kinder Morgan Interstate Gas Transmission LLC (KMIGT), filed in Docket No. CP10-450-000, a prior notice request pursuant to sections 157.205 and 157.216 of the Commission's regulations under the Natural Gas Act (NGA). KMIGT seeks authorization to abandon three 8-inch loop pipeline segments, a total of approximately 9,100 feet, along its Scott City to Phillipsburg Pipeline in Rooks County, Kansas. KMIGT proposes to perform these activities under its blanket certificate issued March 16, 1983, in Docket No. CP83-140-000, et al. [22 FERC ¶ 62,330 (1983)].

Specifically, KMIGT proposes to abandon by removal those three segments which loop the 12-inch Scott City to Phillipsburg Pipeline where it crosses the South Fork Solomon River. KMIGT states that these segments are operationally and functionally obsolete and that the existing 12-inch pipeline can accommodate KMIGT's shippers' existing and projected future requirements, all as more fully set forth in the application which is on file with the Commission and open to public inspection.

KMIGT states that the total cost of all facilities to be abandoned is $48,561. The current cost to replace the three segments is estimated to be $1,800,000. Therefore, KMIGT proposes to abandon by removal and sell for salvage those segments of pipe.

The filing may be viewed on the Web at http://www.ferc.gov using the “eLibrary” link. Enter the docket number excluding the last three digits in the docket number field to access the document. For assistance, contact FERC at FERCOnlineSupport@ferc.gov or call toll-free, (886) 208-3676 or TTY, (202) 502-8659.

Any questions regarding this application may be directed to Skip George, Manager of Regulatory, Kinder Morgan Interstate Gas Transmission LLC, P.O. Box 281304, Lakewood, Colorado 80228-8304, or call (303) 914-4969.

Any person or the Commission's Staff may, within 60 days after the issuance of the instant notice by the Commission, file pursuant to Rule 214 of the Commission's Procedural Rules (18 CFR 385.214) a motion to intervene or notice of intervention and, pursuant to section 157.205 of the Commission's Regulations under the NGA (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link. Persons unable to file electronically should submit an original and 14 copies of the protest or intervention to the Federal Energy regulatory Commission, 888 First Street, NE., Washington, DC 20426.

Comment Date: 5 p.m. Eastern Standard Time August 10, 2010.

Kimberly D. Bose,
Secretary.

[FR Doc. 2010-14941 Filed 6-18-10; 8:45 am]

BILLING CODE 6717-01-P